DEPARTMENT OF COMMERCE

International Trade Administration

[C-570-921]

Lightweight Thermal Paper From the People's Republic of China: Rescission of Countervailing Duty Administrative Review; 2019

AGENCY: Enforcement and Compliance, International Trade Administration, Department of Commerce.

SUMMARY: The Department of Commerce (Commerce) is rescinding the administrative review of the countervailing duty (CVD) order on lightweight thermal paper from the People's Republic of China (China) for the period of review (POR), January 1, 2019, through December 31, 2019, based on the timely withdrawal of the request for review.

DATES: Applicable April 16, 2021.

FOR FURTHER INFORMATION CONTACT: William Langley, AD/CVD Operations, Office I, Enforcement and Compliance, International Trade Administration, U.S. Department of Commerce, 1401 Constitution Avenue NW, Washington, DC 20230; telephone: (202) 482-3861.

SUPPLEMENTARY INFORMATION:

Background

On November 3, 2020, Commerce published a notice of opportunity to request an administrative review of the CVD order on lightweight thermal paper (thermal paper) from China for the POR of January 1, 2019, through December 31, 2019.¹ In accordance with section 751(a) of the Tariff Act of 1930, as amended (the Act), and 19 CFR 351.213(b), Commerce received a timely-filed request for an administrative review from, Appvion, Inc. (the petitioner) for the following producers/exporters: Sailing International Limited; Shenzhen Formers Printing Co., Ltd.; Suzhou Xiandai Paper Production Co.; Dong Nam Pack; Gold Shengpu Paper Products (Suzhou); Xiamen ATP Technology Co. Ltd.; Gold Huasheng Paper (Suzhou IP) Co.; Henan Jianghe Paper Co. Ltd.; Wuxi Honglinxin International Trade; Shenzhen HDB Network Technology; Jinan Fuzhi Paper Co., Ltd.; Avery Dennison (China) Co., Ltd.; Pax Technology Limited; Shenzhen Speedy Import & Export Co., Ltd.; SYCDA Company Limited; Prosper (HK) Co., Ltd.; Shenzhen Baiyuan Paper Co., Ltd.; Jinya Intelligent Technology SHA; Century Paper Group; and Shenzhen Likexin Industrial Co., Ltd.²

¹ See Antidumping or Countervailing Duty Order, Finding, or Suspended Investigation; Opportunity to Request Administrative Review, 85 FR 69586 (November 3, 2020).

² See Petitioner's Letter, “Administrative Review of the Countervailing Duty Order on Lightweight Thermal Paper from the People's Republic of China: Request for Administrative Review,” dated November 30, 2020.

On January 6, 2021, pursuant to this request and in accordance with 19 CFR 351.221(c)(1)(i), Commerce published a notice initiating an administrative review of the CVD order on thermal paper from China with respect to each of the requested companies.³ On March 26, 2021, the petitioner withdrew its request for an administrative review with respect to all of the companies for which it had requested a review.⁴

³ See Initiation of Antidumping and Countervailing Duty Administrative Reviews, 86 FR 511 (January 6, 2021).

⁴ See Petitioner's Letter, “Lightweight Thermal Paper from the People's Republic of China: Withdrawal of Request for Administrative Review,” dated March 26, 2021.

Rescission of Review

Pursuant to 19 CFR 351.213(d)(1), Commerce will rescind an administrative review, in whole or in part, if the party or parties that requested a review withdraws the request within 90 days of the publication date of the notice of initiation of the requested review. As noted above, the petitioner withdrew its requests for review of all companies within 90 days of the publication date of the notice of initiation. No other parties requested an administrative review of the order. Therefore, in accordance with 19 CFR 351.213(d)(1), we are rescinding this review in its entirety.

Assessment

Commerce will instruct U.S. Customs and Border Protection (CBP) to assess countervailing duties on all appropriate entries of thermal paper from China. Countervailing duties shall be assessed at rates equal to the cash deposit of estimated countervailing duties required at the time of entry, or withdrawal from warehouse, for consumption in accordance with 19 CFR 351.212(c)(1)(i). Commerce intends to issue appropriate assessment instructions to CBP no earlier than 35 days after the date of publication of this notice in the Federal Register.

Notification Regarding Administrative Protective Orders

This notice also serves as a reminder to all parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a sanctionable violation.

Notification to Interested Parties

This notice is issues and published in accordance with sections 751(a)(1) and 777(i)(1) of the Act, and 19 CFR 351.213(d)(4).

Dated: April 12, 2021.
James Maeder,
Deputy Assistant Secretary for Antidumping and Countervailing Duty Operations.

[FR Doc. 2021-07832 Filed 4-15-21; 8:45 am]

BILLING CODE 3510-DS-P